Proclamation 8631 of February 28, 2011

50th Anniversary of the Peace Corps

By the President of the United States of America

A Proclamation

In 1961, President John F. Kennedy signed an Executive Order establishing the Peace Corps, forever changing the way America sees the world and the world sees us. Today, one of President Kennedy’s most enduring legacies can be found in the over 200,000 current and returned Peace Corps Volunteers who have collectively given over a half-century of service to the cause of peace. On its 50th anniversary, the United States Peace Corps remains an enduring symbol of our Nation’s commitment to encouraging progress, creating opportunity, and fostering mutual respect and understanding throughout the world.

Over the past five decades, Peace Corps Volunteers have served in nearly 140 countries, bringing a wealth of practical assistance to those working to build better lives for themselves and their communities. From the first group of volunteers to arrive in Ghana and Tanzania in August 1961, they have been emissaries of hope and goodwill to the far corners of our world, strengthening the ties of friendship between the people of the United States and those of other countries. Living and working alongside those they serve, volunteers help address changing and complex global needs in education, health and HIV/AIDS, business and information technology, agriculture, environmental protection, and youth development. With each village that now has access to clean water, each young woman who has received an education, and each family empowered to prevent disease because of the service of a Peace Corps Volunteer, President Kennedy’s noble vision lives on.

In our increasingly interconnected world, the mission of the Peace Corps is more relevant today than ever. Returned volunteers, enriched by their experiences overseas, bring a deeper understanding of other cultures and traditions back to their home communities in the United States. The lasting accomplishments of the Peace Corps continue to strengthen partnerships with leaders and countries around the world. This year, we also mourn the loss and pay tribute to the extraordinary life of Sargent Shriver, the founding director of the Peace Corps. The impact of his decades of public service will echo forever in countless places across the globe that have been touched by the Peace Corps.

On this anniversary, we honor the men and women from across the country who have carried forward our Nation’s finest tradition of service, and we rededicate ourselves to fulfilling the dream and continuing the work of all those who aspire and yearn for peace.

NOW, THEREFORE, I, BARACK OBAMA, President of the United States of America, by virtue of the authority vested in me by the Constitution and the laws of the United States, do hereby proclaim March 1, 2011, as the 50th Anniversary of the Peace Corps. I call upon all Americans to observe this day with appropriate programs, ceremonies, and activities that honor the Peace Corps and its volunteers, past and present, for their many contributions to the cause of global peace and friendship.

IN WITNESS WHEREOF, I have hereunto set my hand this twenty-eighth day of February, in the year of our Lord two thousand eleven, and of the Independence of the United States of America the two hundred and thirty-fifth.

[FR Doc. 2011-5031

Filed 3-2-11; 11:15 am]

Billing code 3195-W1-P